POSTAL SERVICE

39 CFR Part 111

Revised Standards for Mailing Lithium Batteries

AGENCY: Postal Service.

ACTION: Proposed rule.

SUMMARY: The Postal Service is proposing to revise our mailing standards for lithium batteries. Currently, our standards limit customers and battery manufacturers from using the mail to send consumer-type lithium batteries, and prohibit the mailing of devices powered by lithium batteries when the batteries are in the device.

These standards are excessively restrictive because they obstruct the mailing of commonly used consumer-type batteries that are permitted to be transported by air under Department of Transportation (DOT) and International Air Transportation Association (IATA) regulations. In addition, under our current standards, it is difficult to determine which lithium batteries meet mailing standards and which do not. Therefore, by identifying all small consumer-type lithium batteries as mailable when properly labeled and packaged, this proposal would increase the safety of the mail. Our proposed standards are based on, yet more restrictive than, DOT shipping regulations for lithium batteries.

DATES: We must receive your comments on or before May 25, 2007.

ADDRESSES: Mail or deliver written comments to the Manager, Mailing Standards, Postal Service, 475 L'Enfant Plaza, SW., Room 3436, Washington, DC 20260-3436. You may inspect and photocopy all written comments at Postal Service Headquarters Library, 475 L'Enfant Plaza, SW., 11th Floor N, Washington, DC between 9 a.m. and 4 p.m., Monday through Friday.

FOR FURTHER INFORMATION CONTACT: Bert Olsen, 202-268-7276.

SUPPLEMENTARY INFORMATION: Current mailing standards are inconsistent with Department of Transportation (DOT) regulations and prohibit most lithium batteries from being mailed via air transportation services—Express Mail, First-Class Mail, or Priority Mail—even though commercial air carriers currently carry these items under DOT regulations. This proposal would allow the Postal Service to accept lithium batteries and battery-powered devices for mailing in a manner similar to that of other commercial shippers. Commercial shippers follow DOT and International Air Transportation Association (IATA) regulations, which generally allow lithium batteries containing up to 8 grams of equivalent lithium content, while we accept only batteries having no more than 0.5 grams of equivalent lithium content. Many small consumer-type batteries contain more than 0.5 grams of equivalent lithium content.

In addition, our standards prohibit acceptance of devices that have the batteries installed in them, while DOT and IATA regulations permit shipment of electronic devices when small consumer-type batteries are installed. DOT regulations suggest that the device itself offers protection of the batteries, and batteries contained in equipment are less likely to externally short-circuit.

Consumer devices such as personal digital assistants, cameras, flashlights, laptop computers, cell phones, handheld electronic games, and portable media players such as iPods and MP3 players contain lithium batteries. Many popular consumer products now contain lithium batteries, and some batteries cannot be easily removed from the device they power, and some batteries easily exceed our allowable equivalent lithium content requirement. Therefore, we propose to adopt mailing standards that are in line with industry standards and that are more easily understood and complied with by mailers.

Our proposed revision is more restrictive than the shipping regulations required by DOT and IATA in the following ways:

• We would impose a 5-pound weight limit on mailpieces containing primary lithium batteries.

• We would impose a 10-pound weight limit on mailpieces containing secondary lithium batteries and a limit of no more than 3 batteries per mailpiece.

• We would require all primary and secondary lithium batteries to be of the type proven (by testing) to be nondangerous in accordance with UN Manual of Tests and Criteria.

• We would require all mailpieces containing lithium batteries to be marked on the outside to identify the contents.

Our proposal mirrors DOT and IATA allowable gram quantity limits for small consumer-type lithium batteries. Devices containing batteries must be packaged in such a way as to prevent activation while they are in the mailstream. Lithium batteries other than small consumer-type batteries remain nonmailable.

Although we are exempt from the notice and comment requirements of the Administrative Procedure Act [5 U.S.C. of 553(b), (c)] regarding proposed rulemaking by 39 U.S.C. 410(a), we invite public comment on the following proposed revisions to Mailing Standards of the United States Postal Service, Domestic Mail Manual (DMM®), incorporated by reference in the Code of Federal Regulations. See 39 CFR 111.1.

We provide the proposed mailing standards below. We propose to implement these standards on June 1, 2007.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the following sections of the Mailing Standards of the United States Postal Service, Domestic Mail Manual (DMM), as follows:

600 Basic Standards for All Mailing Services

601 Mailability

* * * * *

601.10 Hazardous Materials

* * * * *

10.20 Miscellaneous Hazardous Materials (Hazard Class 9)

* * * * *

[Add new 10.20.5 to read as follows:]

10.20.5 Primary Lithium (Non-Rechargeable) Cells and Batteries

Small consumer-type primary lithium cells or batteries (lithium metal or lithium alloy) like those used to power cameras and flashlights are mailable with the following restrictions: Each cell must contain no more than 1.0 gram (g) of lithium content per cell. Each battery must contain no more than 2.0 g aggregate lithium content per battery. Additionally, each cell or battery must meet the requirements of each test in the UN Manual of Tests and Criteria, part III, and subsection 38.3 as referenced in DOT's hazardous materials regulation at 49 CFR 171.7. All primary lithium cells and batteries must be mailed within a firmly sealed package separated and cushioned to prevent short circuit, movement, or damage. Except for batteries installed in equipment, they must be in a strong outer package. All outer packages must have a complete delivery and return address. Primary lithium cells and batteries are mailable as follows:

a. Via surface transportation when the cells or batteries (not packed with or installed in equipment) are “in the original retail packaging.” They are forbidden aboard passenger aircraft. The outside of the package must be marked on the address side “Surface Mail Only, Primary Lithium Batteries—Forbidden for Transportation Aboard Passenger Aircraft.”

b. Via surface or air transportation when the cells or batteries are properly packed with or properly installed in the equipment they operate and the mailpiece has no more than the number of batteries needed to operate the device. Cells or batteries properly installed in the device they operate must be protected from damage and short circuit, and the device must be equipped with an effective means of preventing accidental activation. The outside of the package must be marked on the address side “Package Contains Primary Lithium Batteries.”

c. The mailpiece must not exceed 5 pounds.

[Add new 10.20.6 to read as follows:]

10.20.6 Secondary Lithium-Ion (Rechargeable) Cells and Batteries

Small consumer-type lithium-ion cells and batteries like those used to power cell phones and laptop computers are mailable with the following restrictions: Each cell must contain no more than 1.5 g of equivalent lithium content per cell. Each battery must contain no more than 8.0 g aggregate quantity of equivalent lithium content per battery. Additionally, each cell or battery must meet the requirements of each test in the UN Manual of Tests and Criteria, Part III, and subsection 38.3 as referenced in the DOT's hazardous materials regulation at 49 CFR 171.7. All secondary lithium-ion cells and batteries must be mailed in a firmly sealed package separated and cushioned to prevent short circuit, movement, or damage. Except for batteries installed in equipment, they must be in a strong outer package. All outer packages must have a complete delivery and return address. These cells and batteries are mailable as follows:

a. Via surface or air transportation when individual cells or batteries are mailed or when properly packed with or properly installed in the equipment they operate and the mailpiece has no more than the number of batteries needed to operate the device. Cells or batteries properly installed in the device they operate must be protected from damage and short circuit, and the device must be equipped with an effective means of preventing accidental activation. The outside of the package must be marked on the address side “Package Contains Lithium-ion Batteries (no lithium metal).”

b. The mailpiece must not contain more than 3 batteries or exceed 10 pounds.

[Add new 10.20.7 to read as follows:]

10.20.7 Damaged or Recalled Batteries

Damaged or recalled batteries are prohibited from mailing unless approved by the manager, Mailing Standards.

[Add new Exhibit 10.20.7 as follows:]

Exhibit 10.20.7 Lithium Battery Mailability Chart

Primary lithium batteries (small non-rechargeable consumer-type batteries) | Surface transportation | Air transportation | Mailpiece weight limit (lb) | International APO/FPO
Without the equipment they operate (individual batteries) | Mailable | Prohibited | 5 | Prohibited.
Packed with equipment but not installed in equipment | Mailable | Mailable | 5 | Mailable.
Contained (properly installed) in equipment | Mailable | Mailable | 5 | Mailable.

Note 1: Each primary cell must not contain more than 1g lithium content.

Note 2: Each primary battery must not contain more than 2 g lithium content.

Secondary lithium batteries (small rechargeable consumer-type batteries) | Surface transportation | Air transportation | Mailpiece weight limit and battery limit | International APO/FPO
Without the equipment they operate (individual batteries) | Mailable | Mailable | 10 lb (no more than 3 batteries) | Mailable.
Packed with equipment but not installed in equipment | Mailable | Mailable | 10 lb (no more than 3 batteries) | Mailable.
Contained (properly installed) in equipment | Mailable | Mailable | 10 lb (no more than 3 batteries) | Mailable.

Note 3: Each secondary cell must not contain more than 1.5 g equivalent lithium content.

Note 4: Each secondary battery must not contain more than 8 g equivalent lithium content.

Note 5: In addition to the 10 pound weight limit for secondary batteries, there is a limit of 3 batteries.

* * * * *

11.0 Other Restricted and Nonmailable Matter

* * * * *

11.17 Battery-Powered Devices

[Revise the first sentence in 11.17 to read as follows:]

Cells or batteries properly installed in equipment must be protected from damage and short circuit, and equipment containing cells or batteries must be equipped with an effective means of preventing accidental activation. * * *

* * * * *

We will publish an appropriate amendment to 39 CFR part 111 to reflect these changes if our proposal is adopted.

Neva R. Watson,
Attorney, Legislative.

[FR Doc. E7-7817 Filed 4-24-07; 8:45 am]

BILLING CODE 7710-12-P